DEPARTMENT OF THE INTERIOR

Minerals Management Service

Information Quality Guidelines Pursuant to Section 515 of the Treasury and General Government Appropriations Act for Fiscal Year 2001

AGENCY: Minerals Management Service (MMS), Interior.

ACTION: Notice of availability of final Information Quality Guidelines.

SUMMARY: The Office of Management and Budget (OMB) issued guidelines in the Federal Register on February 22, 2002 (67 FR 8452), that directed Federal agencies to issue and implement guidelines to ensure and maximize the quality, objectivity, utility, and integrity of Government information disseminated to the public. In compliance with OMB's guidelines, MMS announces the availability of its final Information Quality Guidelines on its Web site.

ADDRESSES: You may access MMS's Information Quality Guidelines on its Web site at: http://www.mms.gov/qualityinfo.Our mailing address is: Department of the Interior, Minerals Management Service, (Attn: AD/PMI), Mail Stop 4230, 1849 C Street, NW., Washington, DC 20240.

FOR FURTHER INFORMATION: Jo Ann Lauterbach, Office of Policy and Management Improvement; telephone (202) 208-7744; Fax (202) 208-4891; e-mail: Jo.Ann.Lauterbach@mms.gov.

SUPPLEMENTARY INFORMATION: Section 515 of the Treasury and General Government Appropriations Act for Fiscal Year 2001 (Public Law 106-554) directed OMB to issue government-wide guidelines that “provide policy and procedural guidance to Federal agencies for ensuring and maximizing the quality, objectivity, utility, and integrity of information (including statistical information) disseminated by Federal agencies.” OMB complied by issuing guidelines that directed each Federal agency to: (a) Issue its own guidelines; (b) establish administrative mechanisms allowing affected persons to seek and obtain correction of information that does not comply with OMB's 515 guidelines; and (c) report periodically to the Director of OMB on the number and nature of complaints received by the agency regarding the accuracy of information disseminated by the agency and how such complaints were handled by the agency.

In compliance with OMB's directives, the Department of the Interior (DOI) issued draft Information Quality Guidelines in the Federal Register on May 24, 2002 (65 FR 26642), that instructed each bureau to prepare its own guidelines. In response to DOI's Federal Register Notice, MMS developed and issued draft guidelines for comment on its Web site on August 1, 2002. We received comments from one private organization. We considered their comments, and where applicable or appropriate, we incorporated them into our final guidelines.

We have now finalized our guidelines and posted them on our Web site. These guidelines are a living document and may be revised periodically to reflect changes in DOI's or MMS's policy, or as best practices emerge, about how best to address, ensure, and maximize information quality. MMS welcomes comments on these guidelines at any time and will consider those comments in any future revisions.

Dated: October 1, 2002.
Walter D. Cruickshank,
Acting Director, Minerals Management Service.

[FR Doc. 02-25690 Filed 10-8-02; 8:45 am]

BILLING CODE 4310-MR-P